TENNESSEE VALLEY AUTHORITY

Meeting of the Regional Resource Stewardship Council

AGENCY: Tennessee Valley Authority (TVA).

ACTION: Notice of Meeting.

SUMMARY: TVA will convene a meeting of the Regional Resource Stewardship Council (Regional Council) to obtain views and advice on the topic of planning for and use of TVA reservoir lands. Under the TVA Act, TVA is charged with the proper use and conservation of natural resources for the purpose of fostering the orderly and proper physical, economic and social development of the Tennessee Valley region. The Regional Council was established to advise TVA on its natural resource stewardship activities. Notice of this meeting is given under the Federal Advisory Committee Act, 5 U.S.C. App. 2, (FACA).

The meeting agenda includes the following:

(1) Orientation to the second-term of the Regional Council.

(2) TVA reservoir lands—planning, management, and use.

(a) Panel presentations and discussion on the public land policies and practices of other public land management agencies.

(b) Briefing on TVA's reservoir land planning process and land management practices.

(c) Regional Council deliberation.

(3) Close out of business for the First Term Regional Council.

4. Public comments on the topic of TVA reservoir lands.

The Regional Council will hear opinions and views of citizens by providing a public comment session. The Public comment session will be held from 11 a.m. to Noon EST on October 24, 2002. Citizens who wish to express views and opinions on the topic of TVA reservoir lands may do so during the Public Comment portion of the agenda. Up to one hour will be allotted for the Public Comments with participation available on a first-come, first-served basis. Speakers addressing the Regional Council are requested to limit their remarks to no more than 5 minutes. Persons wishing to speak register at the door and are then called on by the Regional Council Chair during the public comment period. Handout materials should be limited to one printed page. Written comments are also invited and may be mailed to the Regional Resource Stewardship Council, Tennessee Valley Authority, 400 West Summit Hill Drive, WT 11A, Knoxville, Tennessee 37902.

DATES: The meeting will be held on Wednesday and Thursday, October 23 and 24, 2002, from 8:30 a.m. to 5 p.m. Eastern Standard Time each day.

ADDRESSES: The meeting will be held at the Downtown Radisson, 401 West Summit Hill Drive, Knoxville, Tennessee 37902, and will be open to the public. Anyone needing special access or accommodations should let the contact below know at least a week in advance.

FOR FURTHER INFORMATION CONTACT: Sandra L. Hill, 400 West Summit Hill Drive, WT 11A, Knoxville, Tennessee 37902, (865) 632-2333.

Dated: October 1, 2002.
Kathryn J. Jackson,
Executive Vice President, River System Operations & Environment, Tennessee Valley Authority.

[FR Doc. 02-25507 Filed 10-7-02; 8:45 am]

BILLING CODE 8120-08-M